DEPARTMENT OF ENERGY

Federal Energy Regulatory Commission

[Docket No. EC02-67-000, et al.]

Virginia Electric and Power Company et al.; Electric Rate and Corporate Regulation Filings

May 8, 2002.

The following filings have been made with the Commission. The filings are listed in ascending order within each docket classification.

1. Virginia Electric And Power Company and Dominion Energy Marketing, Inc.

[Docket No. EC02-67-000]

Take notice that on May 1, 2002, Virginia Electric and Power Company (Dominion Virginia Power) and Dominion Energy Marketing, Inc. (Dominion Marketing), (collectively, the Applicants) submitted a joint application under Section 203 of Federal Power Act to request authorization and approval for Dominion Virginia Power to transfer by assignment to Dominion Marketing obligation and rights in a Power Sales Agreement with United Illuminating Company (United Illuminating). The Applicants request approval of the assignment within 60 days from the date of this filing.

The Applicants state that copies of this joint application have been served upon United Illuminating and the state regulatory commissions of Connecticut and Virginia.

Comment Date: May 28, 2002.

2. Southern Company Services, Inc.

[Docket No. ER96-780-005]

Take notice that on April 30, 2002, Southern Company Services, Inc., acting on behalf of Alabama Power Company, Georgia Power Company, Gulf Power Company, Mississippi Power Company, Savannah Electric and Power Company, and Southern Power Company (collectively referred to as the Southern Operating Companies), submitted an updated generation dominance analysis in connection with the Southern Operating Companies' market-based rate authority.

Comment Date: May 21, 2002.

3. Arizona Public Service Company

[Docket No. ER99-3288-006]

Take notice that on April 30, 2002, Arizona Public Service Company (APS) tendered for filing with the Federal Energy Regulatory Commission (Commission), an informational report on the first quarter for 2002 refund payments to eligible wholesale customers under the Company's Fuel Adjustment Clause.

Comment Date: May 21, 2002.

4. ISO New England Inc.

[Docket No. ER01-316-006]

Take notice that on April 30, 2002, ISO New England Inc. filed its Index of Customers for the first quarter of 2002 for its Tariff for Transmission Dispatch and Power Administration Services in compliance with Order No. 614.

Comment Date: May 21, 2002.

5. New York Independent System Operator, Inc.; Morgan Stanley Capital Group, Inc. v. New York Independent System Operator, Inc.

[Docket Nos. ER01-3009-007 and ER01-3153-007; Docket No. EL00-90-007]

Take notice that on May 1, 2002, the New York Independent System Operator, Inc. (NYISO) filed revisions to its Market Administration and Control Area Services Tariff in order to change the collateral requirement applicable bids of non-physical (i.e. virtual) generation and load into the Day-Ahead Market that are settled in the Real-Time Market (Virtual Transactions), pursuant to the Commission's order issued on March 14, 2002, in the above-captioned dockets. The NYISO has requested an effective date of May 1, 2002, for the filing.

The NYISO has served a copy of this filing upon parties on the official service lists maintained by the Commission for the above-captioned dockets.

Comment Date: May 22, 2002.

6. Rainy River Energy Corporation-Taconite Harbor

[Docket No. ER02-1258-001]

Take notice that on May 1, 2002, Rainy River Energy Corporation-Taconite Harbor (RR-TH) tendered for filing with the Federal Energy Regulatory Commission (Commission), FERC Service Agreement No. 1 under RR-TH rate Schedule No. 1 between Rainy River Energy Corporation and RR-TH.

Comment Date: May 22, 2002.

7. Midwest Independent Transmission System Operator, Inc.

[Docket No. ER02-1289-001]

Take notice that on April 30, 2002, the Midwest Independent Transmission System Operator, Inc. (Midwest ISO) and the Midwest ISO Transmission Owners jointly submitted for filing a substitute page of the Midwest ISO Agreement regarding the implementation of the revenue distribution for revenues from the Regional Through and Out Rate (RTOR) surcharge (RTOR Adder) to Michigan Electric Transmission Company, LLC once it becomes a transmission owner in the Midwest ISO. The substitute page states the percentages for revenue distribution without rounding to the next full percentage point.

The Midwest ISO seeks waiver of the Commission's regulations, 18 CFR 385.2010 (2001), with respect to service on all parties on the official service list in this proceeding. The Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's website at www.midwestiso.org under the heading “Filings to FERC” for other interested parties in this matter. The Midwest ISO will provide hard copies to any interested parties upon request.

Comment Date: May 21, 2002.

8. Pacific Gas and Electric Company

[Docket No. ER02-1339-001]

Take notice that on May 1, 2002, Pacific Gas and Electric Company (PG&E) tendered for filing an amendment to its proposed changes in rates for Sacramento Municipal Utility District (SMUD), to be effective July 1, 2001, developed using a rate adjustment mechanism previously agreed by PG&E and SMUD for First Revised PG&E Rate Schedule FERC Nos. 88, 91, and 136.

Copies of this filing have been served upon SMUD, the California Independent System Operator Corporation, and the California Public Utilities Commission.

Comment Date: May 22, 2002.

9. Cleco Power LLC

[Docket No. ER02-1640-001]

Take notice that on May 1, 2002, Cleco Power LLC amended the Interconnection and Operating Agreement between Cleco Power LLC, Cleco Midstream Resources LLC, and Columbian Chemicals Company related to a new cogeneration facility to be constructed at Columbian's plant site in St. Mary Parish, Louisiana that was filed on April 25, 2002. The Amendment provides a substitute Appendix C to replace an incorrectly formatted one-line diagram included in the original filing.

Comment Date: May 22, 2002.

10. Tampa Electric Company

[Docket No. ER02-1673-000]

Take notice that on April 30, 2002, Tampa Electric Company (Tampa Electric) tendered for filing revised rate schedule sheets containing updated caps on energy charges for emergency assistance service under its interchange service contract with Alabama Power Company, Georgia Power Company, Gulf Power Company, Mississippi Power Company, and Savannah Electric and Power Company, as represented by agent Southern Company Services, Inc. (collectively, Southern Companies).

Tampa Electric requests that the revised rate schedule sheets be made effective on May 1, 2002, and therefore requests waiver of the Commission's notice requirement.

Tampa Electric states that a copy of the filing has been served upon Southern Companies and the Florida Public Service Commission.

Comment Date: May 21, 2002.

11. Tampa Electric Company

[Docket No. ER02-1674-000]

Take notice that on April 30, 2002, Tampa Electric Company (Tampa Electric) tendered for filing revised rate schedule sheets containing updated transmission service rates under its agreements to provide qualifying facility transmission service for Cargill Fertilizer, Inc. (Cargill) and Auburndale Power Partners, Limited Partnership (Auburndale).

Tampa Electric proposes that the revised sheets containing the updated transmission service rates be made effective on May 1, 2002, and therefore requests waiver of the Commission's notice requirement.

Copies of the filing have been served on Cargill, Auburndale, and the Florida Public Service Commission.

Comment Date: May 21, 2002.

12. American Transmission Systems, Inc.

[Docket No. ER02-1675-000]

Take notice that American Transmission Systems, Inc. (ATSI) on April 30, 2002 tendered for filing four related Interconnection Agreements between it and various NRG generating companies. The agreements govern the interconnection to the ATSI transmission system of four generating plants that are to be sold to the NRG companies following approval of the Commission. The proposed effective date of the agreements is to coincide with the closing date of the facility sale. Copies of the filing were served upon the NRG companies who are parties to the agreements.

Comment Date: May 21, 2002.

13. Southern California Edison Company

[Docket No. ER02-1676-000]

Take notice that on April 30,2002, Southern California Edison Company (SCE) tendered for filing a Letter Agreement between SCE and Cabazon Wind Partners, LLC (Cabazon).

The Letter Agreement specifies the terms and conditions under which SCE will begin engineering, design, and procurement of materials and equipment for a new 450-foot 115 kV line tap from the existing Garnet-Banning-Maraschino-Windpark 115 kV line to Cabazon's generating facility and a mini remote terminal unit in the facility. Also, SCE will prepare specifications and provide engineering and construction review for a new substation.

Copies of this filing were served upon the Public Utilities Commission of the State of California and Cabazon.

Comment Date: May 21, 2002.

14. Exelon Generation Company, LLC

[Docket No. ER02-1677-000]

Take notice that on April 30, 2002 Exelon Generation Company, LLC, tendered for filing a transaction agreement under its market-based rate wholesale power sales tariff under which it will make sales of energy and capacity to Aquila Merchant Services.

Comment Date: May 21, 2002.

15. Tampa Electric Company

[Docket No. ER02-1678-000]

Take notice that on April 30, 2002, Tampa Electric Company (Tampa Electric) tendered for filing revised rate schedule sheets containing updated rates for emergency interchange service and scheduled/short-term firm interchange service under its interchange contracts with each of 17 other utilities.

Tampa Electric requests that the revised rate schedule sheets containing the updated rates for interchange service be made effective on May 1, 2002, and therefore requests waiver of the Commission's notice requirement.

Tampa Electric states that a copy of the filing has been served upon each of the parties to the affected interchange contracts with Tampa Electric, as well as the Florida and Georgia Public Service Commissions.

Comment Date: May 21, 2002.

16. Rochester Gas and Electric Corporation

[Docket No. ER02-1679-000]

Take notice that on April 30, 2002, Rochester Gas and Electric Corporation (RG&E) tendered for filing with the Federal Energy Regulatory Commission (Commission), a Notice of Cancellation of FERC Rate Schedule No. 13 pursuant to Section 35.15 of the Commission's Rules, 18 CFR 35.15.

RG&E requests an effective date of July 1, 2002.

RG&E served copies of the filing on New York State Electric & Gas Corporation and the New York State Public Service Commission.

Comment Date: May 21, 2002.

17. NRG Northern Ohio Generating LLC

[Docket No. ER02-1680-000]

Take notice that on April 30, 2002, NRG Northern Ohio Generating LLC (NRG Northern Ohio) filed with the Federal Energy Regulatory Commission (Commission) pursuant to 18 CFR 35.13 an unexecuted Transition Power Purchase Agreement with FirstEnergy Solutions Corp., as Service Agreement No. 1 to NRG Northern Ohio's FERC Electric Tariff, Original Volume No. 1.

Comment Date: May 21, 2002.

18. MidAmerican Energy Company

[Docket No. ER02-1681-000]

Take notice that on April 30, 2002, MidAmerican Energy Company (MidAmerican) tendered for filing with the Federal Energy Regulatory Commission (Commission), the Capacity and Energy Confirmation Agreement (Agreement) between MidAmerican and Alliant Energy Corporate Services as agent for Wisconsin Power and Light Company, IES Utilities, and Interstate Power Company (collectively, Alliant). MidAmerican filed the Agreement as Service Agreement No. 5 under MidAmerican's FERC Electric Tariff original Volume No. 5.

MidAmerican requests an effective date of March 1, 2002.

Comment Date: May 21, 2002.

19. MidAmerican Energy Company

[Docket No. ER02-1682-000]

Take notice that on April 30, 2002, MidAmerican Energy Company (MidAmerican) tendered for filing with the Federal Energy Regulatory Commission (Commission), a Master Power Purchase and Sale Agreement (Agreement) between MidAmerican and Aquila Energy Marketing Corporation. MidAmerican filed the Agreement as Service Agreement No. 51 under MidAmerican's FERC Electric Tariff original Volume No. 5.

MidAmerican requests an effective date of November 1, 2001.

Comment Date: May 21, 2002.

20. New York State Electric & Gas Corporation

[Docket No. ER02-1683-000]

Take notice that on April 30, 2002, New York State Electric & Gas Corporation (NYSEG) tendered for filing with the Federal Energy Regulatory Commission (Commission), pursuant to Section 35.15 of the Commission's Rules, 18 CFR 35.15, a Notice of Cancellation of FERC Rate Schedule No. 54.

NYSEG requests that the filing be made effective July 1, 2002.

NYSEG served copies of the filing on Rochester Gas & Electric Corporation, the customer previously receiving service under FERC Electric Rate Schedule No. 54, and the New York State Public Service Commission.

Comment Date: May 21, 2002.

21. American Electric Power Service Corporation

[Docket No. ER02-1684-000]

Take notice that on May 1, 2002, American Electric Power Service Corporation (AEPSC) tendered for filing with the Federal Energy Regulatory Commission (Commission), Firm and Non-Firm Point-to-Point Transmission (PTP) Service Agreements for RWE Trading Americas Inc., Select Energy, Inc. and UBS AG, London Branch, and a revised Network Integration Service Agreement for American Municipal Power—Ohio, Inc. These agreements are pursuant to the AEP Companies' Open Access Transmission Service Tariff that has been designated as the Operating Companies of the American Electric Power System FERC Electric Tariff Second Revised Volume No. 6.

AEPSC requests that the Service Agreements be made effective on April 1, 2002.

A copy has been served upon the Parties and the state utility regulatory commissions of Arkansas, Indiana, Kentucky, Louisiana, Michigan, Ohio, Oklahoma, Tennessee, Texas, Virginia and West Virginia.

Comment Date: May 22, 2002.

22. Deseret Generation & Transmission Co-operative, Inc.

[Docket No. ER02-1686-000]

Take notice that on April 30, 2002, Deseret Generation & Transmission Co-operative, Inc. (Deseret) submitted for filing corrections to two service agreements under its FERC Electric Tariff, Original Volume No. 3. A copy of this filing has been served on the buyer under each service agreement and counsel to the WSPP.

Comment Date: May 21, 2002.

23. San Diego Gas & Electric Company

[Docket No. ER02-1687-000]

Take notice that on May 1, 2002, San Diego Gas & Electric (SDG&E) tendered for filing its limited section 205 Application for Approval of Increase to its Supplemental Surcharge Transmission Rate. Through this filing, SDG&E seeks to recover costs related to certain additional energy infrastructure security and reliability measures being implemented by SDG&E. SDG&E states in its application that it is adopting these security and reliability measures in response to recent terrorist activities and threats experienced by our country, and that its activities are consistent with the Commission's Statement of Policy on September 14, 2001, in docket PL01-6-000.

SDG&E requests an effective date of July 1, 2002 for its proposed increase to the Supplemental Surcharge Rate. The Supplemental Surcharge Rate was established by the Commission in docket ER01-3074-000 to enable SDG&E to recover the cost of certain transmission upgrades that provided increased reliability to the grid and relieved existing constraints on SDG&E's transmission system. SDG&E's current proposed increase to this rate will be passed on to California Independent System Operator (ISO) high voltage service and other Participating Transmission Owners based upon the Transmission Access Charges as described in Amendment 27 and 34 of the ISO Tariff. That is, on July 1, 2002, the ISO will incorporate the additional costs in its High Voltage Wheeling Access Charge and its Transition Charges, which charges or credits each Participating Transmission Owner High Voltage Transmission revenues.

Copies of this filing were served upon the Public Utilities Commission of the State of California, the California Independent System Operator, and other interested parties.

Comment Date: May 22, 2002.

24. Central Illinois Generation, Inc.

[Docket No. ER02-1688-000]

Take notice that on May 1, 2002, Central Illinois Generation, Inc. (CIGI), 17751 North CILCO Road, Canton, IL 61520, tendered for filing a proposed Market Rate Power Sales and Resale Transmission Tariff. CIGI files this tariff so that it may engage in the sale at wholesale of electric energy at market-based rates. CIGI also tendered for filing a Power Supply Agreement and an Interconnection Agreement with Central Illinois Light Company.

Comment Date: May 22, 2002.

25. Dearborn Industrial Generation, LLC

[Docket No. ER02-1689-000]

Take notice that on May 1, 2002, Dearborn Industrial Generation, LLC (DIG) tendered for filing, pursuant to Rule 205, 18 CFR 385.205, petition for an order accepting a revised tariff sheet under its FERC Electric Tariff Original Volume No. 2 to be effective at the earliest possible time, but no later than July 1, 2002.

DIG intends to make sales of ancillary services at market-based rates, in addition to engaging in electric power and energy purchases and sales at market-based rates, which were authorized by FERC on February 27, 2001.

Comment Date: May 22, 2002.

26. Carolina Power & Light Company

[Docket No. ER02-1690-000]

Take notice that on May 1, 2002, Carolina Power & Light Company (CP&L) tendered for filing an executed Service Agreement between CP&L and the following eligible buyer, PG&E Energy Trading-Power, L.P. Service to this eligible buyer will be in accordance with the terms and conditions of CP&L's Market-Based Rates Tariff, FERC Electric Tariff No. 5.

CP&L requests an effective date of April 10, 2002 for this Service Agreement. Copies of the filing were served upon the North Carolina Utilities Commission and the South Carolina Public Service Commission.

Comment Date: May 22, 2002.

27. Cinergy Services, Inc.

[Docket No. ER02-1691-000]

Take notice that on May 1, 2002, Cinergy Services, Inc. (Cinergy) tendered for filing a Notice of Name Change from Minnesota Power to Split Rock Energy LLC. Cinergy respectfully requests waiver of notice to permit the Notice of Name Change to be made effective as of the date of the Notice of Name Change.

A copy of the filing was served upon Split Rock Energy LLC.

Comment Date: May 22, 2002.

28. Florida Power & Light Company

[Docket No. ER02-1692-000]

Take notice that on May 1, 2002 Florida Power & Light Company (FPL) tendered for filing proposed service agreements with NRG Power Marketing Inc., for Firm transmission service and Non-firm transmission service under FPL's Open Access Transmission Tariff.

FPL requests that the proposed service agreements become effective on May 1, 2002.

FPL states that this filing is in accordance with Section 35 of the Commission's regulations.

Comment Date: May 22, 2002.

29. Ameren Services Company

[Docket No. ER02-1693-000]

Take notice that on May 1, 2002, Ameren Services Company (Ameren Services) tendered for filing an unexecuted Network Operating Agreement and an unexecuted Service Agreement for Network Integration Transmission Service between Ameren Services and EnerStar Power Corporation d/b/a Edgar Electric Cooperative Association (EnerStar). Ameren Services asserts that the purpose of the Agreements is to permit Ameren Services to provide transmission service to EnerStar pursuant to Ameren's Open Access Tariff.

Comment Date: May 22, 2002.

30. UNITIL Power Corp.

[Docket No. ER02-1694-000]

Take notice that on May 1, 2002, UNITIL Power Corp. tendered for filing pursuant to Schedule II Section H of Supplement No. 1 to Rate Schedule FERC Number 1, the UNITIL System Agreement, the following material:

1. Statement of all sales and billing transactions for the period January 1, 2001 through December 31, 2001 along with the actual costs incurred by UNITIL Power Corp. by FERC account.

2. UNITIL Power Corp. rates billed from January 1, 2001 to December 31, 2001 and supporting rate development.

Comment Date: May 22, 2002.

31. Cabazon Wind Partners, LLC

[Docket No. ER02-1695-000]

Take notice that on May 1, 2002, Cabazon Wind Partners, LLC (Cabazon) applied to the Commission for acceptance of Cabazon's Electric Tariff FERC No. 1; the granting of certain blanket approvals, including the authority to sell electric energy and capacity at market-based rates; and the waiver of certain Commission regulations. Cabazon also submitted a long-term power purchase agreement between Cabazon and the California Department of Water Resources for acceptance as a service agreement under the market-based rate tariff.

Comment Date: May 22, 2002.

32. Rainy River Energy Corporation—Taconite Harbor

[Docket No. ER02-1696-000]

Take notice that on May 1, 2002, Rainy River Energy Corporation—Taconite Harbor (RRTH) tendered for filing a notice of cancellation of its FERC Electric Rate Schedule No. 1 under which it is authorized to transact at market-based rates. The rate schedule is being cancelled because RRTH is being merged into its ultimate parent, Minnesota Power, at which time RRTH's corporate existence will cease. RRTH requests that its notice of cancellation be accepted effective on or about May 1, 2002.

Comment Date: May 22, 2002.

33. ISO New England Inc.

[Docket No. ER02-1697-000]

Take notice that on May 1, 2002, ISO New England Inc. submitted as a Section 205 filing in the above docket revisions to Market Rule 11, with a requested effective date of three days following a Commission order accepting the proposed revisions.

Comment Date: May 22, 2002.

34. NRG Energy Center Dover LLC

[Docket No. ER02-1698-000]

On May 1, 2002, NRG Energy Center Dover LLC (NRG Dover) filed with the Federal Energy Regulatory Commission an Electricity Tolling Agreement dated June 1, 2001 with NRG Power Marketing, Inc., as Service Agreement No. 1 to NRG Dover's FERC Electric Tariff, Original Volume No. 1.

Comment Date: May 22, 2002.

35. Avista Corporation

[Docket No. ER02-1699-000]

Take notice that Avista Corporation (Avista) on May 1, 2002, tendered for filing with the Federal Energy Regulatory Commission pursuant to 18 CFR 35.13 a Second Revised Service Agreement No. 45, which is an Agreement for Firm and Non-Firm Point-to-Point Transmission Service Under Avista Corporation's Open Access Transmission Tariff—FERC Electric Tariff Volume No. 8 between Avista and Avista Energy, Inc. (Service Agreement).

The revisions to the Second Revised Service Agreement No. 45 herein consist of one change to Attachment A to the Service Agreement—the Agreement for Firm Point-to-Point Service between Plummer Forest Products, Inc. (Plummer) and Avista. The sole change is found in the first sentence of Section 3.2 and consists of extending the termination date from April 30, 2002 to termination upon sixty days advance written notice by either party.

Avista respectfully requests that the Commission accept the Second Revised Service Agreement No. 45 for filing and grant all waivers necessary to allow the Second Revised Service Agreement No. 45 to become effective May 1, 2002. Plummer is the sole customer affected by this Service Agreement and the waiver, if granted, will not affect any other rate or charge to any other customer.

Copies of the filing were served upon Avista Energy, Inc. and Plummer Forest Products, Inc., the parties to the Service Agreement.

Comment Date: May 22, 2002.

36. NEO California Power LLC

[Docket No. ER02-1700-000]

On May 1, 2002, NEO California Power LLC (NEO California) filed with the Federal Energy Regulatory Commission an Electricity Tolling Agreement dated June 1, 2001 with NRG Power Marketing, Inc., as Service Agreement No. 1 to NEO California's FERC Electric Tariff, Original Volume No. 1.

Comment Date: May 22, 2002.

37. PacifiCorp

[Docket No. ER02-1701-000]

Take notice that PacifiCorp on May 1, 2002, tendered for filing in accordance with 18 CFR 35 of the Commission's Rules and Regulations, a Notice of Filing, and Mutual Netting/Settlement Agreements with Pinnacle West Capital Corporation and PPL EnergyPlus LLC.

Copies of this filing were supplied to the Washington Utilities and Transportation Commission and the Public Utility Commission of Oregon.

Comment Date: May 22, 2002.

38. New England Power Pool

[Docket No. ER02-1702-000]

Take notice that on May 1, 2002, New England Power Pool (NEPOOL) tendered for filing with the Federal Energy Regulatory Commission (Commission), pursuant to section 203 of the Federal Power Act requesting acceptance of Amendment No. 3 to the Interim Independent System Operator Agreement (ISO Agreement) dated as of July 1, 1997 between ISO New England Inc. (ISO) and the NEPOOL Participants. The Amendment extends the term of the ISO Agreement by nine months, to March 31, 2003, with a further nine-month extension if the specific conditions identified in the ISO Agreement, as modified by the Amendment, are satisfied.

NEPOOL has requested that the Commission issue an order approving the Amendment on or before June 30, 2002.

The NEPOOL Participants Committee states that copies of these materials were sent to the New England state governors and regulatory commissions and the Participants in the New England Power Pool.

Comment Date: May 22, 2002.

39. Ameren Energy, Inc, Ameren Energy Generating Company, Union Electric Company dba AmerenUE

[Docket No. ER02-1703-000]

Take notice that on May 1, 2002, Ameren Energy, Inc. (Ameren Energy), on behalf of Union Electric Company d/b/a AmerenUE and Ameren Energy Generating Company (collectively, the Ameren Parties), pursuant to section 205 of the Federal Power Act, 16 U.S.C. 824d, and the market rate authority granted to the Ameren Parties, submitted for filing umbrella power sales service agreements under the Ameren Parties' market rate authorizations entered into with El Paso Merchant Energy, L.P. Ameren Energy seeks Commission acceptance of there service agreements effective April 15, 2002.

Copies of this filing were served on the public utilities commissions of Illinois and Missouri and the counterparty.

Comment Date: May 22, 2002.

Standard Paragraph

E. Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Magalie R. Salas,
Secretary.

[FR Doc. 02-11991 Filed 5-13-02; 8:45 am]

BILLING CODE 6717-01-P